DEPARTMENT OF AGRICULTURE

Animal and Plant Health Inspection Service

7 CFR Part 319

[Docket No. 03-002-7]

RIN 0579-AC55

Importation of Nursery Stock; Postentry Quarantine Requirements for Potential Hosts of Chrysanthemum White Rust and Definition of From

AGENCY: Animal and Plant Health Inspection Service, USDA.

ACTION: Proposed rule; withdrawal.

SUMMARY: We are withdrawing a proposed rule that would have amended the nursery stock regulations to provide an option in which the postentry quarantine growing period for articles of Chrysanthemum spp., Leucanthemella serotina, and Nipponanthemum nipponicum that are imported from certain locations would have been reduced from 6 months to 2 months, provided that the grower of those plants implemented a systems approach to prevent the imported articles from being infected with chrysanthemum white rust. The proposed rule would also have amended the definition of from. We are taking this action after considering the comments we received following the publication of the proposed rule.

FOR FURTHER INFORMATION CONTACT: Dr. Arnold T. Tschanz, Senior Import Specialist, Plants for Planting Import and Analysis, Commodity Import Analysis and Operations, PPQ, APHIS, 4700 River Road Unit 133, Riverdale, MD 20737-1236; (301) 734-5306.

SUPPLEMENTARY INFORMATION:

Background

On August 8, 2007, we published in the Federal Register (72 FR 44425-44433, Docket No. 03-002-4) a proposed rule ¹ that would have amended the nursery stock regulations in 7 CFR part 319 to provide an option in which the postentry quarantine growing period for articles of Chrysanthemum spp., Leucanthemella serotina, and Nipponanthemum nipponicum that are imported from certain locations would have been reduced from 6 months to 2 months, provided that the grower of those plants implemented a systems approach in the country of origin to prevent the imported articles from being infected with chrysanthemum white rust. The proposed rule would also have amended the definition of from in § 319.37-1 to read: “An article is considered to be ‘from’ the country where it, or the plants from which the article was derived, was actively growing for at least 9 months immediately prior to export.”

We solicited comments concerning our proposal for 60 days ending on October 9, 2007. We reopened and extended the deadline for comments until November 26, 2007, in a document published in the Federal Register on October 26, 2007 (Docket No. 03-002-5, 72 FR 60790). We received 13 comments by that date. They were from producers, exporters, researchers, and representatives of local, State, and foreign governments.

¹ To view the proposed rule and the comments we received, go to http://www.regulations.gov/fdmspublic/component/main?main=DocketDetail&d=APHIS-2005-0081.

While some commenters favored implementing the proposed option under which the postentry quarantine growing period for articles of Chrysanthemum spp., Leucanthemella serotina, and Nipponanthemum nipponicum that are imported from certain locations would have been reduced from 6 months to 2 months, others opposed it. Representatives of local and State governments stated that it would be difficult to conduct the required postentry quarantine inspection and produce the appropriate documentation within the 2-month timeframe. One commenter cited the difficulty of detecting the disease at low levels. One commenter stated that it would be difficult to keep shipments of cuttings of Chrysanthemum spp., Leucanthemella serotina, and Nipponanthemum nipponicum that arrive at different times segregated in a postentry quarantine facility. Two commenters stated that the proposed rule should apply only to the importation of breeder material, rather than production material. One commenter stated that it would be difficult to enforce the requirements of the proposed systems approach at foreign production facilities.

Two commenters referred to a separate risk assessment being prepared by the Plant Protection and Quarantine program's Center for Plant Health Science and Technology on the subject of chrysanthemum white rust, and suggested that we wait to take further action pending the completion of that assessment.

Four commenters on the proposed rule addressed the definition of from. All were opposed to the revised definition. Commenters raised issues regarding accounting for nursery stock production practices under which plants are shipped after growing periods of less than a 9-month growing cycle and pointed out inconsistency between the 9-month growing period we proposed to require for an article to be considered “from” a country and the typical 2-year postentry quarantine period required in § 319.37-7. One commenter urged us to adopt an incremental approach to revising the definition, rather than implementing it all at once.

After considering all the comments we received, we have concluded that it is necessary to reexamine the issues associated with the importation into the United States of articles of Chrysanthemum spp., Leucanthemella serotina, and Nipponanthemum nipponicum under the 2-month postentry quarantine period and the issues associated with revising the definition of from. Therefore, we are withdrawing the August 8, 2007, proposed rule referenced above. The concerns and recommendations of all the commenters will be considered if any new proposed regulations regarding the importation of articles of Chrysanthemum spp., Leucanthemella serotina, and Nipponanthemum nipponicum or the definition of from are developed.

Authority: 7 U.S.C. 450, 7701-7772, and 7781-7786; 21 U.S.C. 136 and 136a; 7 CFR 2.22, 2.80, and 371.3.

Done in Washington, DC, this 30th day of April 2008.
Kevin Shea,
Acting Administrator, Animal and Plant Health Inspection Service.

[FR Doc. E8-9968 Filed 5-5-08; 8:45 am]

BILLING CODE 3410-34-P